DEPARTMENT OF AGRICULTURE

Foreign Agricultural Service

Fiscal Year 2022 Raw Cane Sugar Tariff-Rate Quota Increase and Extension of the Entry Period

AGENCY: Foreign Agricultural Service, U.S. Department of Agriculture.

ACTION: Notice.

SUMMARY: The Foreign Agricultural Service is providing notice of an increase in the fiscal year (FY) 2022 raw cane sugar tariff-rate quota (TRQ) of 90,718 metric tons raw value (MTRV) and an extension of the TRQ entry period.

DATES: The increase and extension are effective July 11, 2022.

FOR FURTHER INFORMATION CONTACT: Souleymane Diaby, Multilateral Affairs Division, Trade Policy and Geographic Affairs, Foreign Agricultural Service, U.S. Department of Agriculture, Stop 1070, 1400 Independence Avenue SW, Washington, DC 20250-1070; by telephone (202) 720-2916; or by email Souleymane.Diaby@usda.gov.

SUPPLEMENTARY INFORMATION: On September 13, 2021, the Foreign Agricultural Service established the FY 2022 TRQ for raw cane sugar at 1,117,195 MTRV, the minimum to which the United States is committed under the World Trade Organization (WTO) Uruguay Round Agreements. Pursuant to Additional U.S. Note 5 to Chapter 17 of the U.S. Harmonized Tariff Schedule (HTS) and Section 359k of the Agricultural Adjustment Act of 1938, as amended, the Secretary has authority to modify the raw and refined sugar WTO TRQs. The Secretary's authority under Additional U.S. Note 5 and Section 359(k) has been delegated to the Under Secretary for Trade and Foreign Agricultural Affairs (7 CFR 2.26). The Under Secretary has subsequently delegated this authority to the Administrator, Foreign Agricultural Service (7 CFR 2.601). The Foreign Agricultural Service gives notice today of an increase in the quantity of raw cane sugar eligible to enter at the lower rate of duty during FY 2022 by 90,718 MTRV. The conversion factor is 1 metric ton raw value equals 1.10231125 short tons raw value. With this increase, the overall FY 2022 raw sugar TRQ is now 1,207,913 MTRV. Raw cane sugar under this quota must be accompanied by a certificate for quota eligibility. The Office of the U.S. Trade Representative (USTR) will allocate this increase among supplying countries and customs areas.

The Foreign Agricultural Service also today announces that all sugar entering the United States under the FY 2022 WTO raw sugar TRQ will be permitted to enter U.S. Customs territory through October 31, 2022, a month later than the usual last entry date. Additional U.S. Note 5(a)(iv) of Chapter 17 of the HTS provides: “(iv) Sugar entering the United States during a quota period established under this note may be charged to the previous or subsequent quota period with the written approval of the Secretary.” These actions are being taken after a determination that additional supplies of raw cane sugar are required in the U.S. market. USDA will closely monitor stocks, consumption, imports and all sugar market and program variables on an ongoing basis and may make further program adjustments during FY 2022 if needed.

Daniel Whitley,
Administrator, Foreign Agricultural Service.

[FR Doc. 2022-14834 Filed 7-7-22; 4:15 pm]

BILLING CODE 3410-10-P